DEPARTMENT OF AGRICULTURE

Food and Nutrition Service

Agency Information Collection Activities: Special Emergency Approval of SFA Survey II on School Food Supply Chain Disruptions

AGENCY: Food and Nutrition Service (FNS), USDA.

ACTION: Notice.

SUMMARY: In accordance with the Paperwork Reduction Act (PRA) of 1995, this notice invites the general public and other public agencies to comment on a proposed emergency information collection.

The Food and Nutrition Service (FNS) of the United States Department of Agriculture (USDA) is requesting emergency approval under the Paperwork Reduction Act to conduct a survey of School Food Authorities to collect information on the continued impacts of COVID-19-related supply chain disruptions on the Child Nutrition (CN) Programs, as well as emerging challenges related to the transition back to standard school nutrition program operations.

DATES: Written comments must be received on or before November 3, 2022.

ADDRESSES: Comments may be sent to: Sarah Reinhardt, Office of Policy Support, Food and Nutrition Service, U.S. Department of Agriculture, 1320 Braddock Place, Alexandria, VA 22314. Comments may also be submitted via email to Sarah.Reinhardt@usda.gov. Comments will also be accepted through the Federal eRulemaking Portal. Go to http://www.regulations.gov, and follow the online instructions for submitting comments electronically. All responses to this notice will be shared with the Office of Management and Budget. All comments will be a matter of public record.

FOR FURTHER INFORMATION CONTACT: Requests for additional information or copies of this information collection should be directed to Sarah Reinhardt at Sarah.Reinhardt@usda.gov or Barbara Murphy at Barbara.Murphy@usda.gov or (703) 305-2532.

SUPPLEMENTARY INFORMATION: The Office of Management and Budget (OMB) has established regulations for the emergency processing of information collection requests (ICRs) at 5 CFR 1320.13. OMB can authorize Emergency Clearance for an information collection for up to 6 months.

Comments are invited on: (a) Whether the proposed emergency collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. The draft survey is included in the appendix to this Notice.

Title: Special Emergency Approval of SFA Survey II on School Food Supply Chain Disruptions.

OMB Number: 0584-NEW.

Expiration Date: Six months after OMB approval.

Type of Request: Emergency information collection request.

Abstract: FNS is responsible for the administration of the Child Nutrition programs—including the National School Lunch Program (NSLP), the School Breakfast Program (SBP), NSLP Seamless Summer Option (SSO), the Summer Food Service Program (SFSP), the Child and Adult Care Food Program (CACFP), and others—at the federal level. To inform current and future policy decisions and effectively oversee these programs, FNS requires information on how these programs are operating. Although FNS oversees these programs, SAs administer them through agreements with SFAs and other local entities that implement the programs at the local level.

Throughout the pandemic, school nutrition professionals have met extraordinary challenges to ensure every child can get the food they need to learn, grow, and thrive. But circumstances in local communities remain unpredictable, and supply chains for food and labor have been stressed and at times disrupted. USDA is committed to working together with state agencies, school food authorities (SFAs), the food industry, and other stakeholders to communicate these challenges and to identify solutions.

This is the second survey issued to SFAs that will assist FNS and its partners to enhance the toolbox for school nutrition professionals working hard to make sure students have reliable access to healthy meals. Whereas the first SFA survey focused on challenges and mitigation strategies related to procuring specific food or non-food items during the 2021-2022 school year, this survey focuses on food costs, labor costs, and vendor issues that continue to disrupt school food service in the 2022-2023 school year, as well as changes in student participation related to the return to standard operations.

The attached survey has a maximum of 31 questions and is estimated to take approximately 20 minutes to complete per respondent. FNS is asking all SFAs that participate in the Child Nutrition Programs to complete this survey, which will be distributed via email with the support of state agencies. SFAs will be asked to complete the survey using an online survey tool and will receive reminders and support emails from state agencies and FNS as needed. As a result, the total proposed time burden is 8,840.79 burden hours.

Affected Public: School Food Authorities and state agencies.

Estimated Number of Respondents: The total estimated number of respondents is 19,106.

Estimated Number of Responses per Respondent: 5.

Estimated Total Annual Responses: The total estimated number of responses is 95,315.

Estimated Time per Response: 5.6 minutes.

Estimated Total Annual Burden on Respondents: 8,840.79 hours.

Current OMB Inventory: 0.

Difference (Burden Revisions Requested): 8,840.79 hours and 95,315 responses.

Tameka Owens,
Assistant Administrator, Food and Nutrition Service.

OMB Control Number: 058XX.
Expiration Date: XX/XX/20XX.

Appendix

Draft SFA Survey II on School Food Supply Chain Disruption and Student Participation

Introduction

Throughout the pandemic, school nutrition professionals have met extraordinary challenges to ensure every child can get the food they need to learn, grow, and thrive. As School Food Authorities (SFAs) across the country begin to return to standard operations in school year (SY) 2022-2023, the US Department of Agriculture (USDA) seeks to understand the continued challenges SFAs are facing due to ongoing food and labor supply chain disruptions, as well as the ways in which this transition is impacting student participation in nutrition programs.

This survey is mandatory and is intended to ensure the USDA has national, representative-level information to assess the scope, reach, and variation in challenges and mitigation strategies. The survey focuses specifically on the impacts of emerging and continuing supply chain challenges during school year 2022-2023, including food costs, labor costs, and vendor issues, as well as changes in student participation related to the return to standard school nutrition program operations. The results will be used to assist USDA's Food and Nutrition Service (FNS) and its partners to enhance the toolbox for school nutrition professionals working hard to make sure students are served healthy and nutritious meals.

The survey has a maximum of 31 questions and is estimated to take approximately 20 minutes to complete. FNS is asking all SFAs that participate in the Child Nutrition Programs to complete this survey by [DATE].

Please note that the survey includes questions about changes in overall food costs, labor costs, and student participation during the last several years. If this information is not readily available to you, we encourage you to provide your best estimates.

We sincerely appreciate your participation in this survey, particularly as many of you have little time available given the exceptional levels of effort you are putting into feeding children. As such, we have made this survey as short and simple to complete as possible.

We thank you in advance for your contribution to this important effort.

The Food and Nutrition Service (FNS) is collecting this information to better understand the impacts of school food vendor, cost, and labor issues on school districts nationwide. This is a mandatory collection. FNS will use the information to develop tailored resources, tools, and flexibilities to support school districts in serving students healthy and nutritious meals. This collection does not represent personally identifiable information (PII) under the privacy act of 1974. According to the Paperwork Reduction Act of 1995, an agency may not conduct or sponsor, and a person is not required to respond to, a collection of information unless it displays a valid OMB control number. The valid OMB control number for this information collection is 0584-XXXX. The time required to complete this information collection is estimated to average 20 minutes (0.33 hours) per response for SFA Directors, including the time for reviewing instructions, searching existing data sources, gathering and maintaining the data needed, and completing and reviewing the collection of information. Send comments regarding this burden estimate or any other aspect of this collection of information, including suggestions for reducing this burden, to: U.S. Department of Agriculture, Food and Nutrition Service, Office of Policy Support, 1320 Braddock Place, 5th Floor, Alexandria, VA 22314, ATTN: PRA (0584-XXXX). Do not return the completed form to this address.

Please click Next>> to begin the survey.

1. Since the start of the regular 2022-2023 school year, which Child Nutrition Programs has your SFA operated? Do not include programs operated during summer 2022. Select all that apply.

a. National School Lunch Program (NSLP)

b. School Breakfast Program (SBP)

c. NSLP Afterschool Snack Service

d. Child and Adult Care Food Program (CACFP) At-Risk Afterschool Meals

e. Fresh Fruit and Vegetable Program (FFVP)

f. Special Milk Program (SMP)

g. Summer Food Service Program (SFSP) (select only if SFA operated SFSP during unanticipated school closures since the start of the regular 2022-2023 school year)

2. How are the schools in your SFA operating the school lunch and/or breakfast programs in school year 2022-2023? Select all that apply.

a. Collecting household applications to determine eligibility for free or reduced-price meals

b. Provision 2/3

c. Community Eligibility Provision

d. Universal free meals offered by state or territory

e. Operating other alternate provisions for NSLP and SBP

f. Operating other alternate provision(s) for only NSLP or only SBP

3. Which food service model(s) does your SFA use? Select all that apply.

a. Food Service Management Company (FSMC)

b. Vended meals company (provides meals only)

c. Purchase meals from other schools or central kitchens

d. Self-preparation (independent kitchen, base kitchen, or production kitchen)

4. What, if any, supply chain-related challenges has your SFA experienced during school year 2022-2023? Select all that apply.

a. High food costs (compared with a typical pre-pandemic school year)

b. High labor costs (compared with a typical pre-pandemic school year)

c. High cost and/or limited availability of food service materials (e.g., plates, trays, utensils)

d. High cost and/or limited availability of food service equipment or parts

e. School food service staffing shortages

f. Challenges receiving deliveries on usual days, times, or locations

g. Receiving incomplete orders with missing or substituted items

h. Receiving items that are damaged or unusable due to distributor issues

i. Food vendors discontinuing participation in school food service operations

j. Low number of bids for food service contracts

k. Lack of storage space to store additional food in the event of shortages

l. SFA has not experienced any challenges with school meal program operations in school year 2022-2023

m. I don't know

5. Has your SFA experienced any challenges getting USDA Foods processed end products during school year 2022-2023?

a. Yes

b. No

c. I don't know

d. SFA has not used USDA Foods processing during school year 2022-2023

6. To the best of your knowledge, what factors have contributed to challenges getting USDA Foods processed end products during school year 2022-2023? [ASK IF SELECTED Q5 = YES] Select all that apply.

a. Vendor capacity

b. Distributor supply issues

c. Distributor or processor product line reductions (SKU rationalization)

d. Price increases

e. Inability to purchase as much food as SFA would like to due to lack of storage space

f. I don't know

7. What, if any, challenges has your SFA experienced related to the return to standard operations during school year 2022-2023?

a. Fewer parents/guardians submitting applications for free or reduced-price meals

b. Challenges verifying or processing applications for free or reduced-price meals

c. Confusion from students or parents/guardians regarding the return to standard operations (e.g., changes to meal service, payment, or applications)

d. Challenges preparing and/or ordering the right amount of food due to uncertainty in participation

e. Staffing challenges due to changes in meal preparation or service (e.g., from grab-and-go to cafeteria meals)

f. Unpaid school meal debt

g. SFA has not experienced any challenges related to the return to standard operations in school year 2022-2023

h. I don't know

8. How are the challenges your SFA is experiencing impacting school meal operations? Select all that apply. [Randomize display order.]

a. Reduced student participation

b. Reduced sale of nonprogram (competitive) foods

c. Increased competition from nonprogram (competitive) or off-campus food sales

d. Increased overall program costs

e. Difficulty offering enough reimbursable meals to participating children due to lack of food

f. Difficulty meeting meal modification requirements for children with food and nutrition-related disabilities

g. Difficulty adhering to planned menus due to changing or limited food availability

h. Difficulty complying with meal pattern requirements

i. Difficulty complying with regular procurement requirements

j. Inability to offer afterschool snacks/suppers

k. Increased staff stress or workload

l. Difficulty retaining enough staff with adequate skills and training

m. Difficulty fulfilling other job requirements, such as completing federal or state reporting forms, due to time spent addressing challenges

n. SFA has not experienced any of these impacts in school year 2022-2023

o. I don't know

9. What, if any, purchasing strategies has your SFA used to address supply chain challenges during school year 2022-2023? Select all that apply. [Randomize display order.]

a. Aligning product specifications with other SFAs

b. Aligning product specifications with available vendor products

c. Using cooperative purchasing agreements

d. Increasing use of local vendors and/or working with multiple vendors

e. Increasing use of USDA Foods direct delivery (brown box)

f. Increasing use of USDA DoD Fresh

g. Leveraging state contracts for bids

h. Conducting emergency procurements

i. Increasing use of micro-purchases

j. Purchasing foods directly from grocery stores or superstores

k. Increasing local food purchases

l. Decreasing local food purchases

m. Requesting shorter bids and/or making more frequent orders

n. Increasing communication with vendors, distributors, and/or manufacturers to identify available products

o. Planning further ahead and/or placing orders further in advance

p. SFA has not used any purchasing strategies to address supply chain challenges in school year 2022-2023

q. I don't know

10. What other strategies has your SFA used to address supply chain challenges during school year 2022-2023? Select all that apply.

a. Communicating more with parents/guardians about menus and other changes

b. Increasing use of scratch cooking

c. Decreasing use of scratch cooking

d. Limiting or repeating weekly menu offerings

e. Making more frequent menu substitutions

f. Increasing use of available products across multiple menu items

g. Using state funding to cover excess costs of serving school meals

h. Limiting service options (e.g., stopping breakfast in the classroom)

i. Receiving deliveries at nontraditional days, times, or locations

j. Picking up orders when usual delivery methods are not workable

k. SFA has not used any other strategies to address supply chain challenges in school year 2022-2023

l. I don't know

11. What, if any, actions has your SFA taken in anticipation of the return to standard operations during school year 2022-2023?

a. Increasing paid lunch prices

b. Using state funding to cover the cost of reduced-price meals

c. Increasing communication with parents/guardians about program changes (e.g., changes to meal service, payment, or applications)

d. Increasing communication and/or training with staff about program changes

e. Offering universal school meals or receiving other financial assistance from the state

f. No longer participating in NSLP

g. No longer participating in SBP

h. No longer participating in other USDA child nutrition programs (e.g., afterschool snack programs)

i. SFA has not taken any actions in anticipation of the return to standard operations

j. I don't know

12. You indicated that your SFA has faced challenges due to increased food costs. To the best of your knowledge, approximately how much have your food costs increased from a typical pre-pandemic school year (e.g., 2018-2019)? [ASK IF SELECTED Q4 = HIGH FOOD COSTS]

a. Less than 10%

b. 10-24%

c. 25-49%

d. 50-74%

e. 75-99%

f. 100% or more

g. I don't know

13. To the best of your knowledge, what factors have contributed to changes in your food costs? Select all that apply. [ASK IF SELECTED Q4 = HIGH FOOD COSTS]

a. Changes in student participation in nutrition program(s)

b. Changes in food service vendors, including using new and/or multiple vendors to obtain food

c. Changes in meal preparation or service (e.g., from scratch cooking to ready-to-eat meals)

d. Vendors, distributors or manufacturers increased costs

e. Purchasing more food directly from grocery stores or superstores

f. Purchasing more food last-minute

g. Using own transportation to transport food more frequently

h. Substitutions for unavailable items are more expensive

i. I don't know

j. Other (please specify)

14. You indicated your SFA has faced challenges due to increased labor costs. To the best of your knowledge, approximately how much have your labor costs increased from a typical pre-pandemic school year (e.g., 2018-2019)? [ASK IF SELECTED Q4 = HIGH LABOR COSTS]

a. Less than 10%

b. 10-24%

c. 25-49%

d. 50-74%

e. 75-99%

f. 100% or more

g. I don't know

15. To the best of your knowledge, what factors have contributed to changes in your labor costs? Select all that apply. [ASK IF SELECTED Q4 = HIGH LABOR COSTS]

a. Wage increases due to factors beyond SFA control (e.g., state minimum wage increase)

b. Wage increases implemented by SFA to hire and/or retain staff

c. Need to hire additional staff for basic program operations

d. Need to hire additional staff to support scratch cooking

e. Increased overtime for existing staff

f. Staff turnover and training

g. I don't know

h. Other (please specify)

16. You indicated your SFA has faced challenges leading to reduced student participation. To the best of your knowledge, approximately how much has student participation decreased across the child nutrition programs your SFA operates since the start of last school year (2021-2022)? [ASK IF SELECTED Q8 = REDUCED STUDENT PARTICIPATION]

a. Less than 10%

b. 10-24%

c. 25-49%

d. 50-74%

e. 75-99%

f. I don't know

17. To the best of your knowledge, what factors have contributed to decreases in student participation? Select all that apply. [ASK IF SELECTED Q8 = REDUCED STUDENT PARTICIPATION]

a. Fewer parents/guardians submitting applications for free or reduced-price meals

b. Challenges verifying or processing applications for free or reduced-price meals

c. Confusion from students or parents/guardians regarding the return to standard operations (e.g., changes to meal service, payment, or applications)

d. Difficulty purchasing enough food to meet student demand

e. Student dissatisfaction with menus and/or meals

f. Shortage of staff, time, equipment, or materials required for scratch cooking

g. Reduced sale of nonprogram (competitive) foods

h. Decrease in enrollment

i. Meals are no longer free for all students

j. I don't know

k. Other (please specify)

18. In general, how did student participation in your SFA's child nutrition programs last school year (2021-2022) compare with participation in a typical pre-pandemic school year (e.g., 2018-2019)?

a. Greater than pre-pandemic participation

b. Less than pre-pandemic participation

c. About the same as pre-pandemic participation

d. I don't know

19. You indicated your SFA has received incomplete orders with missing or substituted items. To the best of your knowledge, how frequently do you receive incomplete orders with missing or substituted items? [ASK IF SELECTED Q4 = RECEIVING INCOMPLETE ORDERS WITH MISSING OR SUBSTITUTED ITEMS]

a. Rarely

b. Sometimes

c. About half of the time

d. Most of the time

e. Almost always or always

20. To the best of your knowledge, when you receive an incomplete order with missing or substituted items, approximately how many items in the order are affected? [ASK IF SELECTED Q4 = RECEIVING INCOMPLETE ORDERS WITH MISSING OR SUBSTITUTED ITEMS]

a. Few

b. About a quarter of items

c. About half of items

d. About three quarters of items

e. All or almost all items

21. You indicated your SFA has experienced food companies discontinuing participation in school food service operations. To the best of your knowledge, which of the following factors are driving this change? Select all that apply. [ASK IF SELECTED Q4 = FOOD VENDORS DISCONTINUING PARTICIPATION IN SCHOOL FOOD SERVICE OPERATIONS]

a. Federal, state, or local procurement regulations (please specify)

b. Labor shortages

c. Food shortages

d. Labor costs

e. Food costs

f. Energy or fuel costs

g. Difficulty producing items that meet SFA specifications

h. Difficulty guaranteeing prices for bids due to changes in food costs

i. School food operations are no longer profitable

j. I don't know

k. Other (please specify)

22. You indicated your SFA increased its local food purchases during school year 2022-2023 due to supply chain challenges. To the best of your knowledge, what factors contributed to this decision? Select all that apply. [ASK IF SELECTED Q9 = INCREASING LOCAL FOOD PURCHASES]

a. Local foods have been easier to find

b. Local foods have been more affordable to purchase

c. Policies, programs, or performance goals at the state or local level encourage local food purchasing

d. SFA received grant or funding to purchase more local foods

e. SFA received useful information or training on purchasing local foods

f. I don't know

g. Other (please specify)

23. You indicated your SFA decreased its local food purchases during school year 2022-2023 due to supply chain challenges. To the best of your knowledge, what factors contributed to this decision? Select all that apply. [ASK IF SELECTED Q9 = DECREASING LOCAL FOOD PURCHASES]

a. Local foods have been more difficult to find

b. Local foods have been more expensive to purchase

c. Local foods have been more difficult to process or prepare due to lack of staff or training

d. Local foods have been more difficult to process or prepare due to kitchen equipment

e. Local foods have been more difficult to prepare or serve due to changes in meal service (e.g., use of grab-and-go meals)

f. I don't know

g. Other (please specify)

24. You indicated your SFA increased its use of scratch cooking during school year 2022-2023 due to supply chain challenges. To the best of your knowledge, what factors contributed to this decision? Select all that apply. [ASK IF SELECTED Q10 = INCREASING USE OF SCRATCH COOKING]

a. Scratch cooking has helped reduce program costs

b. Scratch cooking has helped utilize bulk or commodity foods

c. Policies, programs, or performance goals at the state or local level encourage scratch cooking

d. SFA received grant or funding to support scratch cooking

e. SFA received useful information or training on scratch cooking

f. I don't know

g. Other (please specify)

25. You indicated your SFA decreased its use of scratch cooking during school year 2022-2023 due to supply chain challenges. To the best of your knowledge, what factors contributed to this decision? Select all that apply. [ASK IF SELECTED Q10 = DECREASING USE OF SCRATCH COOKING]

a. Scratch cooking has been more difficult due to cost or availability of ingredients

b. Scratch cooking has been more difficult due to lack of staff or training

c. Scratch cooking has been more difficult due to lack of kitchen equipment

d. Scratch cooking has been more difficult due to changes in meal service (e.g., use of grab-and-go meals)

e. I don't know

f. Other (please specify)

26. What kitchen equipment does your SFA currently have and need to replace? Select all that apply.

a. Oven

b. Refrigerator

c. Walk-in refrigerator/freezer

d. Food cabinets

e. Convection steamer

f. Serving lines

g. Food/beverage coolers

h. Dishwashing unit

i. Food bars

j. Tables

k. Range

l. Food warmer

m. Mixer

n. Food carts

o. Ice/hot water dispenser

p. Counter space

q. SFA does not have any kitchen equipment that needs replacing

r. I don't know

s. Other (please specify)

27. What kitchen equipment does your SFA not currently have and need to purchase? Select all that apply.

a. Oven

b. Refrigerator

c. Walk-in refrigerator/freezer

d. Food cabinets

e. Convection steamer

f. Serving lines

g. Food/beverage coolers

h. Dishwashing unit

i. Food bars

j. Tables

k. Range

l. Food warmer

m. Mixer

n. Food carts

o. Ice/hot water dispenser

p. Counter space

q. SFA does not need to purchase any new kitchen equipment

r. I don't know

s. Other (please specify)

28. Did your SFA accept all or some of their Supply Chain Assistance (SCA) fund?

a. Yes, SFA accepted all of it

b. Yes, SFA accepted some of it

c. No

d. I don't know

29. If your SFA did not accept their Supply Chain Assistance (SCA) fund, do you know why? [ASK IF ANSWER Q28 = NO]

a. Didn't know SCA funds were available

b. Missed deadline to apply for funds

c. Too much time and/or effort required to apply to receive SCA funds

d. Too much time and/or effort required to accept and use SCA funds

e. Unclear on the intended use or recipient of funds

f. Unsure how to code funds in local accounting system

g. My SFA did not need the SCA fund

h. I don't know

30. At the end of school year 2021-2022, what was the status of your school food service account balance?

a. Operated at a surplus (i.e., revenues exceeded costs)

b. Broke even (i.e., revenues are about equal to costs)

c. Operated at a deficit (i.e., costs exceeded revenues)

31. You indicated your SFA was operating at a surplus at the end of school year 2021-2022. To the best of your knowledge, how has your SFA used surplus funds (or does your SFA plan to use surplus funds) for any of the following? Select all that apply. [ASK IF ANSWER Q30 = OPERATED AT SURPLUS]

a. Cover the cost of reduced-price meals

b. Hire new staff

c. Increase pay rate for staff

d. Improve meal quality

e. Kitchen equipment repair or maintenance

f. Purchase new kitchen equipment

g. I don't know

32. What do you predict will be the status of your school food service account balance in the first quarter of school year 2022-2023?

a. Operate at a surplus (i.e., revenues exceeded costs)

b. Breakeven (i.e., revenues are about equal to costs)

c. Operate at a deficit (i.e., costs exceeded revenues)

33. What else would you like FNS to know about the challenges your SFA is experiencing? If there are particular strategies you would like to use to address your SFA's challenges, but you are experiencing barriers to doing so, please explain.

[FR Doc. 2022-21512 Filed 10-3-22; 8:45 am]

BILLING CODE 3410-30-P